DEPARTMENT OF ENERGY

Federal Energy Regulatory Commission

Combined Notice of Filings #1

Take notice that the Commission received the following electric corporate filings:

Docket Numbers: EC11-60-004.

Applicants: Progress Energy, Inc., Duke Energy Corporation.

Description: Applicants submit response to FERC 4/10/12 letter requesting additional information regarding Applicants' 3/26/12 compliance filing.

Filed Date: 04/13/2012.

Accession Number: 20120416-0038.

Comment Date: 5 p.m. ET 4/25/12.

Take notice that the Commission received the following exempt wholesale generator filings:

Docket Numbers: EG12-57-000.

Applicants: Cayuga Operating Company, LLC.

Description: Notice of Self-Certification of Exempt Wholesale Generator Status of Cayuga Operating Company, LLC.

Filed Date: 4/13/12.

Accession Number: 20120413-5289.

Comments Due: 5 p.m. ET 5/4/12.

Docket Numbers: EG12-58-000.

Applicants: Somerset Operating Company, LLC.

Description: Notice of Self-Certification of Exempt Wholesale Generator Status of Somerset Operating Company, LLC.

Filed Date: 4/13/12.

Accession Number: 20120413-5291.

Comments Due: 5 p.m. ET 5/4/12.

Take notice that the Commission received the following electric rate filings:

Docket Numbers: ER96-496-020; ER99-3658-006; ER08-444-006.

Applicants: Northeast Utilities Service Company, Select Energy, Inc., NSTAR Electric Company.

Description: Notice of Non-Material Change in Circumstances of Northeast Utilities Operating Companies, et al.

Filed Date: 4/16/12.

Accession Number: 20120416-5112.

Comments Due: 5 p.m. ET 5/7/12.

Docket Numbers: ER11-2741-002.

Applicants: CPV Batesville, LLC.

Description: Supplement to Market Power Update of CPV Batesville, LLC.

Filed Date: 3/21/12.

Accession Number: 20120321-5067.

Comments Due: 5 p.m. ET 5/7/12.

Docket Numbers: ER11-4486-000.

Applicants: ITC Midwest LLC.

Description: ITC Midwest LLC submits tariff filing per 35.19a(b): Filing of a Refund Report to be effective N/A.

Filed Date: 4/16/12.

Accession Number: 20120416-5127.

Comments Due: 5 p.m. ET 5/7/12.

Docket Numbers: ER12-799-000.

Applicants: Nevada Solar One, LLC.

Description: Supplement to Request for Determination of Category 1 Status in Compliance with Order No. 697.

Filed Date: 4/6/12.

Accession Number: 20120406-5085.

Comments Due: 5 p.m. ET 4/27/12.

Docket Numbers: ER12-1316-001.

Applicants: Silver State Solar Power North, LLC.

Description: Silver State Solar Power North LLC Baseline Tariff Amendment to be effective 3/25/2012.

Filed Date: 4/13/12.

Accession Number: 20120413-5249.

Comments Due: 5 p.m. ET 5/4/12.

Docket Numbers: ER12-1504-001.

Applicants: Cimarron Windpower II, LLC.

Description: Amendment of Effective Date to be effective 4/19/2012.

Filed Date: 4/13/12.

Accession Number: 20120413-5286.

Comments Due: 5 p.m. ET 5/4/12.

Docket Numbers: ER12-1551-000.

Applicants: Vermont Electric Power Company.

Description: Notice of Cancellation of Rate Schedule 234 of Vermont Electric Power Company.

Filed Date: 4/16/12.

Accession Number: 20120416-5114.

Comments Due: 5 p.m. ET 5/7/12.

Take notice that the Commission received the following electric securities filings:

Docket Numbers: ES12-34-000.

Applicants: El Paso Electric Company.

Description: Application of El Paso Electric Company for Authorization under Section 204 of the Federal Power Act.

Filed Date: 4/13/12.

Accession Number: 20120413-5301.

Comments Due: 5 p.m. ET 5/4/12.

Take notice that the Commission received the following open access transmission tariff filings:

Docket Numbers: OA07-54-010.

Applicants: PacifiCorp.

Description: PacifiCorp's annual informational filing on assessments and distributions of operational penalties.

Filed Date: 04/16/2012.

Accession Number: 20120416-5148.

Comment Date: 5 p.m. ET 5/7/12.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 16, 2012.
Nathaniel J. Davis, Sr.,
Deputy Secretary.

[FR Doc. 2012-9780 Filed 4-23-12; 8:45 am]

BILLING CODE 6717-01-P